DEPARTMENT OF ENERGY

Federal Energy Regulatory Commission

[Docket No. CP01-01-000]

Colorado Interstate Gas Company; Notice of Application

October 11, 2000.

Take notice that on October 2, 2000, Colorado Interstate Gas Company (CIG), P.O. Box 1087, Colorado Springs, Colorado 80944, filed in Docket No. CP01-001-000 an application pursuant to Sections 7(b) and 7(c) of the Natural Gas Act (NGA) and the Commission's Rules and Regulations for a certificate of public convenience and necessity authorizing CIG to construct and operate facilities and for authority to abandon certain facilities and base gas in order to: (i) Increase the deliverability of CIG's Storage Pool, and (ii) increase the capacity of its system southward out of the Cheyenne Compressor Station in Weld County, Colorado, all as more fully set forth in the application which is on file with the Commission and open to public inspection. The filing may be viewed at http://www.ferc.fed.us/online/rims.htm (call 202-208-222 for assistance).

CIG states that Public Service Company of Colorado (PSCo) a local distribution company that serves the Denver metropolitan area, requires the deliverability and transportation capacity to replace deliverability lost by PSCo's pending abandonment of its Leyden Underground Natural Gas Storage Facility (Leyden) and to meet requirements for additional transportation capacity. In addition, CIG states that other transportation shippers have requested new services from CIG.

Specifically, CIG proposes to increase the working gas capacity and increase deliverability at the Fort Morgan Storage Field in Morgan County, Colorado by:

• Drilling one injection/withdrawal well (#34) and converting one observation well to a salt water disposal well (#18) with associated gathering and appurtenant facilities.

• Upgrading the two segments of the Fort Morgan Storage field gathering system from MAOPs of 1,800 psig and 2,000 psig to a single MAOP of 2,160 psig through hydrostatic testing and replacement of underrated equipment.

• Increasing the maximum allowed stored gas in place from 14,322 Mmcf to 14,858 Mmcf and increasing the average shut-in reservoir bottom hole pressure to a maximum of 2,390 psia.

• Converting 600 MMcf of base gas to working gas through modification of piping at the Fort Morgan Compressor Station.

CIG also proposes to abandon the Keyes Sand Reservoir and its associated base gas at the Boehm Storage Field in Morton County, Kansas and requests any necessary authority to sell the base gas. Specifically, CIG proposes to:

• Recomplete four injection/withdrawal wells from the Keyes Reservoir formation to the G reservoir formation and convert eight Keyes injection/withdrawal wells to observation wells with all associated gathering and appurtenant facilities.

• Install a 600 horsepower leased compressor unit in late summer 2002, along with hydrogen sulfide treatment and appurtenant facilities, to remove Keyes Reservoir base gas. The compressor will be used until such time as the pressure in the Keyes Sand Reservoir is too low to be effectively utilized. CIG will then abandon the compressor and attach the Keyes injection/withdrawal wells, utilized for depleting the reservoir, to the low pressure Greenwood Gathering system until the reservoir pressure is too low to produce any additional volumes. CIG anticipates that the reservoir will be depleted by 2006. CIG requests pre-granted abandonment authority for the 600 horsepower compressor unit and proposes to defer any issue concerning the treatment of revenues resulting from the sale of the base gas until its next rate case to be filed by the end of March, 2001.

In order to increase its mainline capacity south of the Cheyenne Compressor Station, CIG proposes to:

• Construct 26.2 miles of 24-inch diameter pipeline loop and appurtenant facilities commencing at CIG's existing Cheyenne Compressor Station in Weld County, Colorado and extending southward to terminate at CIG's existing Ault Meter Station in Weld County, Colorado. CIG also proposes to install an additional meter station at the Cheyenne Compressor Station.

• Construct the new Fort Lupton Compressor Station consisting of three nameplate rated 2,225 horsepower natural gas fired reciprocating compressor units and appurtenant facilities in Weld County, Colorado.

• Construct 27 miles of 24-inch diameter pipeline loop and appurtenant facilities commencing at the proposed Fort Lupton Compressor Station in Weld County, Colorado and extending southward to CIG's existing Watkins Compressor Station in Adams County, Colorado.

• Install miscellaneous facilities under 18 CFR 2.55(a) within the Watkins Compressor Station Yard, including yard piping, pipe valves, fittings, controls, regulation and measurement.

CIG states that the above listed modifications to its system will increase CIG's Storage Pool deliverability from 775 MMcf to 877 MMcf per day and allow CIG to transport 87.6 MMcf per day southward from the Cheyenne Compressor Station and an additional 61.9 MMcf per day southward from Fort Lupton Compressor Station. CIG asserts that the project is supported by firm agreements for almost all of the capacity. CIG estimates that the project will cost $58,180,300 and proposes rolled-in rate treatment for the project.

Any questions regarding this application should be directed to James R. West, Manager, Certificates, at (719) 520-4679, Colorado Interstate Gas Company, P.O. Box 1087, Colorado Springs, Colorado 80944.

Any person desiring to be heard or to protest with reference to said application should on or before November 1, 2000, file with the Federal Energy Regulatory Commission (Commission), 888 First Street, NE, Washington, DC 20426, a motion to intervene or protest in accordance with the requirements of the Commission's Rules of Practices and Procedure (18 CFR 385.211 and 385.214) and the regulations under the Natural Gas Act (NGA) (18 CFR 157.10). All protests filed with the Commission will be considered by it in determining the appropriate action to be taken but will not serve to make the protestants parties to the proceeding. Any person wishing to become a party in any proceeding must file a motion to intervene in accordance with the Commission's rules.

A person obtaining intervenor status will be placed on the service list maintained by the Secretary of the Commission and will receive copies of all documents issued by the Commission, filed by the applicant, or filed by all other intervenors. An intervenor can file for rehearing of any Commission order and can petition for court review of any such order. However, an intervenor must serve copies of comments or any other filing it makes with the Commission to every other intervenor in the proceeding, as well as filing an original and 14 copies with the Commission.

A person does not have to intervene, however, in order to have comments considered, a person, instead, may submit two copies of such comments to the Secretary of the Commission. Commenters will be placed on the Commission's environmental mailing list, will receive copies of environmental documents, and will be able to participate in meetings associated with the Commission's environmental review process. Commenters will not be required to serve copies of filed documents on all other parties. However, Commenters will not receive copies of all documents filed by other parties or issued by the Commission, and will not have the right to seek rehearing or appeal the Commission's final order to a Federal court.

The Commission will consider all comments and concerns equally, whether filed by Commenters or those requesting intervenor status.

Take further notice that, pursuant to the authority contained in and subject to the jurisdiction conferred upon the Commission by Section 7 and 15 of the NGA and Commission's Rules of Practice and Procedure, a hearing will be held without further notice before the Commission or its designee on this application if no motion to intervene is filed within the time required herein, if the Commission on its own review of the matter finds that a grant of the certificate is required by the public convenience and necessity. If a motion for leave to intervene is timely filed, or if the Commission on its own motion believes that a formal hearing is required, further notice of such hearing will be duly given.

Under the procedure herein provided for, unless otherwise advised, it will be unnecessary for CIG to appear or be represented at the hearing.

David P. Boergers,
Secretary.

[FR Doc. 00-26553 Filed 10-16-00; 8:45 am]

BILLING CODE 6717-01-M